DEPARTMENT OF TRANSPORTATION

Federal Highway Administration

[Docket No. FHWA-2024-0055]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by August 19, 2024.

ADDRESSES: You may submit comments identified by DOT Docket ID Number 0055 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Adam Larsen, (360) 619-2601, Adam.Larsen@dot.gov, Office of Tribal Transportation, Office of Federal Lands Highway, Federal Highway Administration, Department of Transportation, 610 E 5th Street, Vancouver, WA 98661. Office hours are from 7 a.m. to 4 p.m. Pacific Daylight Time, Monday through Friday, except Federal holidays.

SUPPLEMENTARY INFORMATION: We published a Federal Register Notice with a 60-day public comment period on this information collection on May 9, 2024, at [89 FR 42571]. The comments and FHWA's responses are below:

There were no comments received.

Title: Tribal Transportation Program Safety Fund (TTPSF).

Background: The TTPSF is authorized within the Tribal Transportation Program (TTP) under section 202(e) of title 23, United States Code (U.S.C.) which reads “to be allocated based on an identification and analysis of highway safety issues and opportunities on tribal land, as determined by the Secretary, on application of the Indian tribal governments”. The Federal Highway Administration has developed an application process which is described in a Notice of Funding Opportunity (NOFO). The current NOFO was published on June 7, 2022.

Respondents: Eligible applicants to the TTPSF are the 574 Federally Recognized Indian Tribes as described in 89 FR 944 or future updates published in the Federal Register.

Frequency: Applications are accepted on an annual basis during a 60-90 day application intake period.

Estimated Average Burden per Response: A complete application consists of a completed application form and project narrative 3-7 pages in length, on average. An average of 130 applications are received annually from an average of 95 eligible applicants. Each application is estimated to take an average of 2.25 hours to complete.

Estimated Total Annual Burden Hours: Total estimated average annual burden is 293 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: July 16, 2024.
Jazmyne Lewis,
Information Collection Officer.

[FR Doc. 2024-15941 Filed 7-18-24; 8:45 am]

BILLING CODE 4910-22-P